DEPARTMENT OF HOUSING AND URBAN DEVELOPMENT

[Docket No. FR-7092-N-30]

Privacy Act of 1974; System of Records

AGENCY: Office of Single-Family Program Development, Office of Housing, HUD.

ACTION: Notice of a modified system of records.

SUMMARY: Under the Privacy Act of 1974, as amended, the Department of Housing and Urban Development (HUD), Office Single-Family Program Development, is issuing a public notice of its intent to modify the system of records for the “Single Family Mortgage Insurance Origination System (SFMIOS)”. SFMIOS combines the features of the: Computerized Homes Underwriting Management System (CHUMS)/Loan Application Management System (LAMS), Federal Housing Administration (FHA) and Connection (FHAC). The purpose of these modifications is to update the system of records name, systems manager, authority for maintenance of the system and routine uses. This notice also includes record source categories, which were erroneously omitted from the prior notice. The updates are explained in the Supplementary Infomation section of this notice.

DATES: Comments will be accepted on or before July 5, 2024. The SORN becomes effective immediately, while the routine uses become effective after the comment period immediately upon publication except for the routine uses, which will become effective on the date following the end of the comment period unless comments are received which result in a contrary determination.

ADDRESSES: You may submit comments, identified by docket number or by one of the following methods:

Federal e-Rulemaking Portal: http://www.regulations.gov. Follow the instructions provided on that site to submit comments electronically.

Fax: 202-619-8365; Email: www.privacy@hud.gov.

Mail: Attention: Privacy Office; Mr. LaDonne White, Chief Privacy Officer; The Executive Secretariat; 451 Seventh Street SW, Room 10139, Washington, DC 20410-0001.

Instructions: All submissions received must include the agency name and docket number for this rulemaking. All comments received will be posted without change to http://www.regulations.gov including any personal information provided.

Docket: For access to the docket to read background documents or comments received go to http://www.regulations.gov .

FOR FURTHER INFORMATION CONTACT: Mr. LaDonne White; 451 Seventh Street SW, Room 10139, Washington, DC 20410-0001; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD amends system of records notice (SORN) for the Computerized Homes Underwriting Management System (CHUMS)/Loan Application Management System (LAMS) and Federal Housing Administration (FHA) Connection (FHAC), to include these substantive changes reflecting the new and modified items listed below:

i. Systems Manager: Updated to reflect personnel changes.

ii. Authority for Maintenance of the System: Updated to add a new citation for the Payment Integrity Information Act of 2019 in conjunction with a new routine use (P) supporting a new computer matching program between CHUMS and the United States Department of the Treasury Department's “Do Not Pay” system.

iii. Record Source Categories: This section was erroneously omitted in the prior notice published July 12, 2023, at 88 FR 44386-44389 (Agency Docket No. FR-7077-N-12).

iv. Routine Uses of Records Maintained in the System, Including Categories of Users and Purposes of Such Uses: Item (L) covering the routine use for a computer matching interface between CHUMS and the Social Security Administration is being revised. HUD is revising the statement in parentheses that reads “(This use is specific to CHUMS data)”.

The new routine use shall read: “To the Social Security Administration (SSA) through a computer matching program to verify the eligibility of program participants and applicants in FHA's housing finance programs. (This computer matching program is conducted by an interface between CHUMS and the SSA Enumeration Verification System (EVS).)”

A new routine use (P) is being added to cover a new computer matching program conducted by an interface between CHUMS and the US Department of Treasury's Do Not Pay system. The new routine use shall read: “To the US Department of Treasury through a computer matching program interface between CHUMS and Treasury's Do Not Pay (DNP) system for the purposes of preventing and recovering improper payments and to verify borrower eligibility to participate in FHA's mortgage insurance programs per the Payments Integrity Information Act of 2019.”

SYSTEM NAME AND NUMBER:

Single Family Mortgage Insurance Origination System (SFMIOS), HUD/HSNG-03.

SECURITY CLASSIFICATION:

Unclassified.

SYSTEM LOCATIONS:

The core CHUMS system is in HUD Headquarters, 451 7th Street SW, Washington, DC 20410-1000, and Microsoft Azure Federal Cloud US East Data Center in One Microsoft Way, Redmond, Washington 98052-6399. The Technology Open to Approved Lenders (TOTAL) Scorecard and CHUMS, FHAC and LAMS remain at the National Center for Critical Information Processing and Storage located at NASA's Shared Services Center, Building 1111, Stennis Space Center, MS 39529-6000.

SYSTEMS MANAGER(S):

Brian Faux, Director, Office of Single-Family Program Development, HUD Headquarters, 451 Seventh Street SW, Washington, DC 20410; telephone (800) 225-5342; email; Brian.Faux@hud.gov.

AUTHORITY FOR MAINTENANCE OF THE SYSTEMS:

Title I, section 2 of the National Housing Act (12 U.S.C. 1703). Section 202 of the National Housing Act (12 U.S.C. 1708). Section 203 of the National Housing Act (12 U.S.C. 1709). Section 255 of the National Housing Act (12 U.S.C. 1715z-20). 31 U.S.C. 7701. 42 U.S.C. 3543. 42 U.S.C. 3543, 24 CFR part 200, subpart U, 24 CFR 203.35 and 31 U.S.C. 3351-3358.

PURPOSE(S) OF THE SYSTEM:

Federal Housing Administration (FHA) Connection (FHAC) is integrated with HUD's security infrastructure to assign user roles and permissions based on business needs. FHAC's function as a security and access management portal includes web pages to collect legal first and last names, Social Security Numbers (SSNs), dates of birth (DOB), mother's maiden name, work telephone number and email address. All data collected by FHAC for security and access management is stored in Computerized Homes Underwriting Management System (CHUMS).

CHUMS supports HUD and its approved business partners with processing and underwriting applications for single-family mortgages insurance under the National Housing Act. CHUMS provides functionality for tracking and processing cases and managing workloads by HUD field office management. CHUMS also provides functionality to assist lenders and HUD in determining eligibility for participation in HUD's Single Family mortgage insurance program. CHUMS enables lenders to use automated underwriting systems (AUS) provided by mortgage financial institutions by granting authorized AUS providers access to FHA's Technology Open to Approved Lenders (TOTAL) Scorecard. TOTAL Scorecard is an automated scorecard tool in CHUMS that is owned and maintained by HUD that must be used in combination with an authorized AUS to evaluate the overall creditworthiness of mortgage loan applications based on a number of credit variables and determines the associated level of risk for all loans submitted for FHA mortgage insurance with the exception of Streamline Refinances and Home Equity Conversion Mortgage (commonly referred to as reverse mortgage) loans.

Loan Application Management System (LAMS) supports the Federal Housing Administration (FHA) mortgage insurance program by providing automated processing, analysis, and screening of appraisal documentation. LAMS receives and stores appraisal data from the Electronic Appraisal Delivery (EAD) portal in a Mortgage Industry Standards Maintenance Organization (MISMO) Extensible Markup Language (XML) format tailored to HUD specifications. LAMS passes certain data elements onto FHAC and CHUMS to ensure data integrity and provide valuable time savings to lenders by reducing the burden of paper-based delivery and manual data entry processes. LAMS provides a limited user interface consisting pre-formatted (canned) reports used by HUD to monitor system activity and to monitor appraiser compliance to HUD requirements. LAMS data is shared outside of HUD pursuant to Routine Use “N” below.

CATEGORIES OF INDIVIDUALS COVERED BY THE SYSTEM:

System Users, HUD business partners (appraisers, inspectors, mortgagee staff underwriters), HUD employees and contractors, Mortgagors (Borrowers), Individuals who applied for a mortgage insured under HUD/FHA's single family mortgage insurance programs, including Home Equity Conversion Mortgages (HECM) Non-Borrowing Spouses, Appraisers (both applicants and Appraisers listed on the HUD Appraiser Roster), 203k Consultants (both applicants and 203k Consultants listed on the HUD 203k Consultant Roster), Mortgagee (Lender) Staff including, but not limited to, loan originators, appraisers, underwriters, processors and file clerks, Individuals registering for access to the HUD Housing Counselor Certification Examination, whether or not they become certified, Individuals registering for HUD Certified Housing Counselor certification or housing counseling clients receiving housing counseling from an agency participating in HUD's Housing Counseling Clients.

CATEGORIES OF RECORDS IN THE SYSTEM:

Full name, Social Security Number (SSN), IRS Employer Identification Number (EIN), Taxpayer ID, Appraiser Roster ID number, 203k Consultant ID number, License Number, Date of Birth (DOB), mother's maiden name, home and/or work telephone number, email address, mailing address (home and/or work) and Agency or organization affiliation, Lender ID, racial/ethnic background (if disclosed), sex (if disclosed), credit scores (FICO® scores), Non-borrowing Spouse status (HECM loans only), mortgage loan terms, including documents used by the lender when underwriting the loan (including, but not limited to paystubs, bank statements, tax returns), Appraiser's license/expiration date, and address, email address, demographic data, Minority Business Enterprise (MBE) Code, 203K Consultant ID number, 203K license number (if applicable), Roster termination date for Appraisers, 203k Consultants, Housing Counselors), business territory/participation state, Nationwide Mortgage Licensing System (NMLS) number, transaction history and/or workload of the individuals using the system, Housing Counseling System (HCS) number, preferred language, and subject property addresses.

RECORD SOURCE CATEGORIES:

Mortgagors, Appraisers, 203k Consultants, Mortgagees and their employees and service providers (loan originators, processors, underwriters), Housing Counselors, Individuals that pass the HUD Certified Housing Counselor examination, HUD Housing Counseling Program clients that receive education and counseling from a HUD participating housing counseling agency, and HUD employees and contractors.

ROUTINE USES OF RECORDS MAINTAINED IN THE SYSTEM, INCLUDING CATEGORIES OF USERS AND PURPOSES OF SUCH:

A. To appropriate agencies, entities, and persons when: (a) HUD suspects or has confirmed that there has been a breach of the system of records; (b) HUD has determined that as a result of the suspected or confirmed breach there is a risk of harm to individuals, HUD (including its information systems, programs, and operations), the Federal Government, or national security; and (c) the disclosure made to such agencies, entities, and persons is reasonably necessary to assist in connection with HUD's efforts to respond to the suspected or confirmed breach or to prevent, minimize, or remedy such harm.

B. To another Federal agency or Federal entity, when HUD determines that information from this system of record is reasonably necessary to assist the recipient agency or entity in (a) responding to a suspected or confirmed breach or (b) preventing, minimizing, or remedying the risk of harm to individuals, the recipient agency or entity (including its information systems, programs, and operations), the Federal government, or national security resulting from a suspected or confirmed breach.

C. To a congressional office from the record of an individual in response to an inquiry from that congressional office made at the request of the individual to whom the record pertains.

D. To the General Accounting Office (GAO) for audit purposes.

E. To contractors, grantees, experts, consultants, and the agents thereof, and others performing or working on a contract, service, grant, cooperative agreement, or other agreement with HUD, when necessary to accomplish an agency function related to these systems of records, limited to only those data elements considered relevant to accomplishing an agency function.

F. To the general public through rosters maintained and published by HUD to look up Appraisers, 203k Consultants, Housing Counselors, and HECM Counselors. The information will be released to any interested person only through a specific web page on either www.hud.gov or the HUD Exchange designated by HUD. Such disclosures are limited to name, contact information, licensing, and certification status.

G. To Federal agencies, non-Federal entities, their employees, and agents (including contractors, their agents or employees; employees or contractors of the agents or designated agents); or contractors, their employees or agents with whom HUD has a contract, service agreement, grant, cooperative agreement, or computer matching agreement for: (a) detection, prevention, and recovery of improper payments; (b) detection and prevention of fraud, waste, and abuse in major Federal programs administered by a Federal agency or non-Federal entity; (c) detection of fraud, waste, and abuse by individuals in their operations and programs; (d) for the purpose of establishing or verifying the eligibility of, or continuing compliance with statutory and regulatory requirements by, applicants for, recipients or beneficiaries of, participants in, or providers of services with respect to, cash or in-kind assistance or payments under Federal benefits programs or recouping payments or delinquent debts under such Federal benefits programs. Records under this routine use may be disclosed only to the extent that the information shared is necessary and relevant to verify pre-award and pre-payment requirements prior to the release of Federal funds, or to prevent and recover improper payments for services rendered under programs of HUD or of those Federal agencies and non-Federal entities to which HUD provides information under this routine use.

H. To Federal agencies, and non-Federal entities, including, but not limited to contractors, grantees, experts, consultants, State and local governments and other research institutions or their parties, and entities and their agents with whom HUD has a contract, service agreement, grant, cooperative agreement, or other agreement, for the purposes of analysis and research to support program operations, management, performance monitoring, evaluation, risk management, and policy development, or to otherwise support the Department's mission. Records under this routine use may not be used in whole or in part to make decisions that affect the rights, benefits, or privileges of specific individuals. The results of the matched information may not be disclosed in identifiable form.

I. To appropriate Federal, State, local, tribal, or other governmental agencies or multilateral governmental organizations responsible for investigating or prosecuting the violations of, or for enforcing or implementing, a statute, rule, regulation, order, or license, where HUD determines that the information would help in the enforcement of civil or criminal laws and when such records, either alone or in conjunction with other information, indicate a violation or potential violation of law.

J. To a court, magistrate, administrative tribunal, or arbitrator in the course of presenting evidence, including disclosures to opposing counsel or witnesses in civil discovery, litigation, mediation, or settlement negotiations; or in connection with criminal law proceedings; when HUD determines that use of such records is relevant and necessary to the litigation and when any of the following is a party to the litigation or have an interest in such litigation: (a) HUD, or any component thereof; or (b) any HUD employee in his or her official capacity; or (c) any HUD employee in his or her individual capacity where HUD has agreed to represent the employee; or (d) the United States, or any agency thereof, where HUD determines that litigation is likely to affect HUD or any of its components.

K. To any component of the Department of Justice or other Federal agency conducting litigation or in proceedings before any court, adjudicative, or administrative body, when HUD determines that the use of such records is relevant and necessary to the litigation and when any of the following is a party to the litigation or have an interest in such litigation: (a) HUD, or any component thereof; or (b) any HUD employee in his or her official capacity; or (c) any HUD employee in his or her individual capacity where the Department of Justice or agency conducting the litigation has agreed to represent the employee; or (d) the United States, or any agency thereof, where HUD determines that litigation is likely to affect HUD or any of its components.

L. To the Social Security Administration (SSA) through a computer matching program to verify the eligibility of program participants and applicants in FHA's housing finance programs. (This computer matching program conducted by an interface between CHUMS and the SSA Enumeration Verification System (EVS).)

M. To HUD authorized AUS providers and software companies involved in providing access to TOTAL Scorecard including but not limited to Government Sponsored Enterprises (GSEs) Fannie Mae and Freddie Mac, financial institutions, and software companies to respond to requests for assistance with individual cases submitted to TOTAL Scorecard and for the purposes of research and analysis to enhance program operations and performance through automated underwriting, credit scoring and risk management. PII data used for research and analysis including the results of the research and analysis must be de-identified and aggregated and may not be disclosed or published. (This use is specific to CHUMS data.)

N. To other Federal agencies, (including but not limited to the Federal Housing Finance Agency (FHFA) and the Consumer Financial Protection Bureau), and their contractor/s through data sharing and other agreements for the purposes of research and analysis of automated underwriting, credit enhance oversight of the mortgage market, inform rulemaking, assess program effectiveness, and to publish de-identified aggregate data and results of research and analysis. (This use is specific to CHUMS data.)

O. To Federal financial regulators, Fair Lending enforcement agencies, and financial institutions (including, but not limited to the Federal Housing Finance Agency (FHFA), Government Sponsored Enterprises (GSEs) Fannie Mae and Freddie Mac, Veterans Administration, US Department of Agriculture Rural Development Agency, Consumer Financial Protection Bureau, the Federal Reserve, and the Appraisal Subcommittee) through data sharing agreements and other agreements for the purposes of analysis and research to assess program compliance and risks associated with real estate appraisal and other property valuation methods used in Federal housing finance transactions. Recipients may use the data, including analysis and research, in conducting investigations and taking enforcement action (including cases and administrative proceedings) for violations of laws, rules, or regulations, and for coordinated policy development and implementation. (This routine use is specific to LAMS data.)

P. To the US Department of Treasury through a computer matching program interface between CHUMS and Treasury's Do Not Pays (DNP) system for the purposes of preventing and recovering improper payments and to verify borrower eligibility to participate in FHA's mortgage insurance programs per the Payments Integrity Information Act of 2019.

POLICIES AND PRACTICES FOR STORAGE OF RECORDS:

Electronic only.

POLICIES AND PRACTICES FOR RETRIEVAL OF RECORDS:

Records are retrieved by Name and Social Security Number.

POLICIES AND PRACTICES FOR RETENTION AND DISPOSAL OF RECORDS:

Per HUD Schedule Appendix 20 Single Family Home Mortgage Insurance Program Records, item 13B6, and HUD Schedule Appendix 5, Technical Support Records, all records in FHAC, CHUMS and LAMS will be destroyed when superseded or obsolete. Per General Record Schedule 5.2, Item 20, all FHAC, CHUMS and LAMS records are temporary and are to be destroyed upon verification of successful creation of the final document or file, or when no longer needed for business use, whichever is later.

ADMINISTRATIVE, TECHNICAL, AND PHYSICAL SAFEGUARDS:

Administrative Safeguards: The core CHUMS system and all data are maintained simultaneously across multiple data centers within the Microsoft Azure Federal cloud, which are located within FedRAMP security approved facilities. For technical reasons, certain CHUMS databases, FHAC and LAMS are located and backed up on servers housed within secure Federal data facilities and not in the cloud.

Physical Safeguards: Controls to secure the data and protect electronic records, buildings, and related infrastructure against threats associated with their physical environment include, but are not limited to, using cypher and combination locks, key cardcontrolled access, security guards, closed circuit TV, identification badges, and safes. Administrative controls include encryption of back-up data, back-ups secured off-site, methods to ensure only authorized users have access to PII, periodic security audits, regular monitoring of system users' behavior and users' Security Practices.

Technical Safeguards: Controls for the systems include, but are not limited to, encryption of Data at Rest and in Transit, firewalls at HUD, user ID, password protection, role-based access controls, Least Privileged access, elevated and/or administrative privileged access, Personal Identify Verification cards, intrusion detection systems. Unauthorized access is controlled by application-level security.

RECORD ACCESS PROCEDURES:

Individuals requesting records of themselves should address written inquiries to the Department of Housing Urban and Development, 451 7th Street SW, Washington, DC 20410-0001. For verification, individuals should provide their full name, current address, and telephone number. In addition, the requester must provide either a notarized statement or an unsworn declaration made under 24 CFR 16.4.

CONTESTING RECORD PROCEDURES:

The HUD rule for accessing, contesting, and appealing agency determinations by the individual concerned are published in 24 CFR part 16 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

None.

HISTORY:

Docket No. FR-7077-N-12, 88-FR-44386, July 12, 2023; Docket No. FR-5921-N-17, 81-FR-71750, October 18, 2016.

LaDonne White,
Chief Privacy Officer, Office of Administration.

[FR Doc. 2024-12178 Filed 6-3-24; 8:45 am]

BILLING CODE 4210-67-P